DEPARTMENT OF COMMERCE

National Oceanic and Atmospheric Administration

50 CFR Part 660

[I.D. 092402E]

RIN 0648-AP87

Fisheries Off West Coast States and in the Western Pacific; Coastal Pelagic Species Fishery; Notice of Availability of Amendment 10; Corrections.

AGENCY: National Marine Fisheries Service (NMFS), National Oceanic and Atmospheric Administration (NOAA), Commerce.

ACTION: Correction to notice of availability of an amendment to a fishery management plan.

SUMMARY: This document corrects the address and phone number for the Pacific Fishery Management Council (Council) in the notice of availability of Amendment 10, which was published October 3, 2002.

DATES: Effective October 15, 2002.

SUPPLEMENTARY INFORMATION:

Background

The notice of availability of Amendment 10 to the Coastal Pelagic Species Fishery Management Plan was published in the Federal Register on October 3, 2002 (67 FR 62001), and requested comments by December 2, 2002. The interested public was directed to obtain a copy of Amendment 10 from the Council, but the Council's former address and phone number was cited, not its current address and phone number.

Correction

In the ADDRESSES section and FOR FURTHER INFORMATION CONTACT section of the Notice of availability FR Doc. 02-25171, in the issue of Thursday, October 3, 2002, (67 FR 62001), make the following corrections.

1. On page 62001, in the last paragraph in the second column, delete the given address for the Pacific Fishery Management Council and replace it with the following address:

“7700 NE Ambassador Place, Suite 200, Portland, OR 97220”.

2. On page 62001, in the third column under FOR FURTHER INFORMATION CONTACT, delete the phone number for the Pacific Fishery Management Council and replace it with the following phone number:

“503-820-2280”.

Authority: 16 U.S.C. 1801 et. seq.

Dated: October 8, 2002.
Virginia M. Fay,
Acting Director, Office of Sustainable Fisheries, National Marine Fisheries Service.

[FR Doc. 02-26137 Filed 10-11-02; 8:45 am]

BILLING CODE 3510-22-S